DEPARTMENT OF HOMELAND SECURITY

Coast Guard

[Docket No. USCG-2024-0884]

Great Lakes Pilotage Advisory Committee; Vacancies; Correction

AGENCY: U.S. Coast Guard, Department of Homeland Security.

ACTION: Notice; request for applications; correction.

SUMMARY: The Coast Guard published a notice on October 22, 2024, regarding two vacancies on the Great Lakes Pilotage Advisory Committee (Committee). The Great Lakes Pilotage Advisory Committee provides advice and makes recommendations to the Secretary of Homeland Security via the Commandant of the U.S. Coast Guard on matters relating to Great Lakes pilotage. The October 22 notice contained incorrect vacancy descriptions. This document corrects those errors.

FOR FURTHER INFORMATION CONTACT: Mr. Francis Levesque, Alternate Designated Federal Officer of the Great Lakes Pilotage Advisory Committee; telephone 571-308-4941 or email at francis.r.levesque@uscg.mil.

Correction

In the Federal Register of October 22, 2024, in FR Doc. 2024-0884, on page 84360, in the third column, correct sub-paragraphs one and two to read: 1. “One member chosen from among nominations made by Great Lakes port authorities and marine terminals;”

2. One member chosen from among nominations made by Great Lakes maritime labor organizations.”

Dated: November 1, 2024.
Michael T. Cunningham,
Chief, Office of Regulations and Administrative Law, U.S. Coast Guard.

[FR Doc. 2024-25770 Filed 11-5-24; 8:45 am]

BILLING CODE 9110-04-P